DEPARTMENT OF THE INTERIOR

Bureau of Land Management

[LLNML00000 L51100000.GN0000.LVEMG11CG230]

Notice of Intent To Prepare an Environmental Impact Statement for the Proposed Copper Flat Mine Plan of Operations, Sierra County, NM

AGENCY: Bureau of Land Management, Interior.

ACTION: Notice of Intent.

SUMMARY: In compliance with the National Environmental Policy Act (NEPA) of 1969, as amended, and the Federal Land Policy and Management Act of 1976, as amended, the Bureau of Land Management (BLM) Las Cruces District Office, Las Cruces, New Mexico, intends to prepare an Environmental Impact Statement (EIS) and by this notice is announcing the beginning of the scoping process to solicit public comments and identify issues.

DATES: This notice initiates the public scoping process for the EIS. Comments on issues may be submitted in writing until February 8, 2012. The date(s) and location(s) of any scoping meetings will be announced at least 15 days in advance through local media, newspapers and the BLM Web site at: http://www.blm.gov/nm/st/en/fo/Las_Cruces_District_Office.html. To be included in the Draft EIS, all comments must be received prior to the close of the scoping period or 15 days after the last public meeting, whichever is later. We will provide additional opportunities for public participation upon publication of the Draft EIS.

ADDRESSES: You may submit comments related to the Copper Flat EIS Project by any of the following methods:

• Email: dhaywood@blm.gov.

• Fax: (575) 525-4412.

• Mail: BLM Las Cruces District Office, 1800 Marquess Street, Las Cruces, NM 88005.

Documents pertinent to this proposal may be examined at the Las Cruces District Office.

FOR FURTHER INFORMATION CONTACT: Michael Smith, Geologist; telephone (575) 525-4421; address 1800 Marquess Street, Las Cruces, NM 88005 or by email michaelsmith@blm.gov and to have your name added to the mailing list. Persons who use a telecommunications device for the deaf (TDD) may call the Federal Information Relay Service (FIRS) at 1-(800) 877-8339 to contact the above individual during normal business hours. The FIRS is available 24 hours a day, 7 days a week, to leave a message or question with the above individual. You will receive a reply during normal business hours.

SUPPLEMENTARY INFORMATION: The BLM Las Cruces District Office has received a Mine Plan of Operations (Mine Plan) from the New Mexico Copper Corp. to re-start the Copper Flat Mine located in Sierra County, New Mexico. The proposed mine is located approximately 4 miles north-northeast of the town of Hillsboro, New Mexico. Lands involved in the mine include parts of the following sections:

New Mexico Principal Meridian

T. 15 S., R. 6 W.,

Sec. 31.

T. 15 S., R. 7 W.,

Secs. 25, 26, 35 and 36.

Mining, ore processing, and related activities would occur on both private land and public domain administered by the BLM. The proponent currently holds active mining claims over public domain land included in the proposed operation. The estimated project duration is 27 years from site construction to mine reclamation and closure. Mining at the existing open pit would be completed using standard multiple-bench methods. The pit would eventually widen to approximately 2,500 by 2,500 feet and deepen to 900 feet. Ore from the pit would be drilled, blasted, loaded and hauled to a planned processing facility immediately east of the pit. At this facility, the ore would be crushed and ground and copper and molybdenum minerals would be separated and concentrated using standard flotation techniques. Mineral concentrates would be transported by truck and rail to be processed offsite; onsite smelting or refining is not included in this proposal. Waste rock created during operations would be banked primarily on public domain land, and tailings would be disposed of into an expanded, existing tailings impoundment. Water for the proposed operation would be obtained from a well field located on BLM-administered land approximately 8 miles east of the mine in:

New Mexico Principal Meridian

T. 15 S., R. 5 W.,

Secs. 30 and 31.

Water would be piped to the proposed operation through an existing pipeline which roughly parallels the existing highway (New Mexico State Route 152). The total estimated disturbance on public domain land would be 745 acres. Reclamation would consist of removing processing equipment from Federal land, and restoring and seeding waste rock dumps and other disturbed areas. The BLM and the New Mexico Department of Energy, Minerals and Natural Resources would bond the proponent for site reclamation prior to granting authorization.

The purpose of the public scoping process is to determine relevant issues that will influence the scope of the environmental analysis, including alternatives, and guide the process for developing the EIS. At present, the BLM has identified the following preliminary issues:

1. Water use and effects on surface and subsurface hydrology;

2. Water quality effects and water quality protection;

3. Traffic;

4. Cultural Resources and Native American Religious Concerns;

5. Threatened, Endangered and Special Status Species;

6. Livestock grazing; and

7. Reclamation and post-mining land use.

The BLM will utilize and coordinate the NEPA commenting process to satisfy the public involvement process for Section 106 of the National Historic Preservation Act (NHPA) (16 U.S.C. 470f) as provided for in 36 CFR 800.2(d)(3). Native American tribal consultations will be conducted in accordance with policy, and tribal concerns will be given due consideration, including impacts on Indian trust assets. Federal, State, and local agencies, along with other stakeholders that may be interested or affected by the BLM's decision on this project are invited to participate in the scoping process and, if eligible, may request or be requested by the BLM to participate as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

Jesse Juen,
Associate State Director.

[FR Doc. 2012-128 Filed 1-6-12; 8:45 am]

BILLING CODE 4310-VC-P